ENVIRONMENTAL PROTECTION AGENCY

[ER-FRL-6632-8]

Environmental Impact Statements; Notice of Availability

Responsible Agency: Office of Federal Activities, General Information (202) 564-7167 or www.epa.gov/compliance/nepa.

Weekly receipt of Environmental Impact Statements

Filed August 26, 2002 Through August 30, 2002

Pursuant to 40 CFR 1506.9.

EIS No. 020366, Final EIS, AFS, ID, Mann Creek Vegetation Management and Watershed Restoration Project, Implementation, Payette National Forest, Weiser Ranger District, Washington County, ID, Wait Period Ends: October 7, 2002, Contact: John Baglien (208) 549-4200.

EIS No. 020367, Draft EIS, FHW, NC, U.S. 64 Corridor Project, Transportation Improvements in the Vicinity of the City of Asheboro and Improved Access to the NC Zoological Park, Funding and COE Section 404 Permit, Transportation Improvement Program (TIP) Project No. R-2536, Randolph County, NC, Comment Period Ends: October 21, 2002, Contact: Nicholas L. Graf, P.E. (919) 856-4346.

EIS No. 020368, Draft EIS, AFS, AZ, Flagstaff/Lake Mary Ecosystem Analyses Area, Amendment to the Coconino Forest Plan, Implementation, Coconino National Forest, Peaks and Mormon Lake Ranger Districts, Coconino County, AZ, Comment Period Ends: October 21, 2002, Contact: Debbie Kill (928) 526-0866.

EIS No. 020369, Draft Supplement, AFS, MT, Meadow Smith Project, New and Additional Information, Proposing Management Actions Designed to Maintain the Presence of and Protect the Unique Characteristics of Open-Grow, Large-Tree Ponderosa Pine and Western Larch Forest Communities, Flathead National Forest, Swan Lake Ranger District, Lake and Missoula Counties, MT, Comment Period Ends: October 21, 2002, Contact:Keith Soderstrom (406) 837-7510.

EIS No. 020370, Draft EIS, IBR, NM, UT, CO, Navajo Reservoir Operations, Proposed Operational Changes to Navajo Dam and Reservoir, Endangered Species Act (ESA), Related Flow Recommendations, Navajo Unit-San Juan River, NM, C0 and UT, Comment Period Ends: November 4, 2002, Contact: Ken Beck (970) 385-6558.

EIS No. 020371, Final Supplement, NOA, NC, FL, SC, GA, South Atlantic Region Shrimp Fishery Management Plan, Amendment 5, Additional Information concerning Rock Shrimp in the Exclusive Economic Zone (EEZ), NC, SC, FL and GA, Wait Period Ends: October 7, 2002, Contact: Dr. Joseph E. Powers (727) 570-5305.

EIS No. 020372, Final Supplement, COE, WI, IL, WI, Upper Des Plaines River Flood Damage Reduction Project, Recommended Plan to Construction a Lateral Storage Area, National Economic Development (NED), Lake County, IL and Kenosha and Racine Counties, WI, Wait Period Ends: October 7, 2002, Contact: Keith Ryder (312) 353-6400.

EIS No. 020373, Draft EIS, FSA, Programmatic EIS—Conservation Reserve Program Implementation and Expansion, Farm Security and Rural Investment Act of 2002 (2002 Farm Bill), in the United States, Comment Period Ends: October 21, 2002, Contact: Don Steck (202) 690-0224. This document is available on the Internet at: http://www.fsa.usda.gov/dafp/cepd/epb/nepa.htm.

EIS No. 020374, Final EIS, FRC, WA, Martin Creek Hydroelectric Project (FERC Project No. 10942), Construction, Operation and Maintenance of a 10.2-Megawatt (MW) Hydroelectric Run-of-River Facility, License Approval, Cascade Mountains, Martin and Kelley Creeks, Mt. Baker-Snoqualmie National Forest, King County, WA, Wait Period Ends: October 7, 2002, Contact: David Turner (202) 502-6091.

EIS No. 020375, Draft EIS, FHW, IN, IN-25 Transportation Corridor, Improvements from Interstate 65 Interchange to U.S. 24, Funding, Right-Of-Way and COE Section 404 Permits, Hoosier Heartland Highway, Tippecanoe, Carroll and Cass Counties, IN, Comment Period Ends: November 1, 2002, Contact: Robert Dirks (317) 226-7341. This document is available on the Internet at: http://www.sr25study.com.

EIS No. 020376, Draft EIS, IBR, CA, Fish Passage Improvement Project at the Red Bluff Diversion Dam (RBDD), Improvements of Anadromous Fish Passage both Upstream and Downstream, Tehama-Colusa Canal Authority (TCCA), Tehama, Glenn, Colusa and Yolo Counties, CA, Wait Period Ends: October 21, 2002, Contact: Max Stodolski (530) 529-3895.

EIS No. 020377, Draft EIS, FHW, ND, U.S. 2 Highway Transportation Improvements, From near U.S. Highway 85 (milepost 31.93) to west of U.S. Highway 52 (milepost 131.24), Funding, NPDES and COE Section 404 Permits, Williams, Mountrail, and Ward Counties, ND, Comment Period Ends: October 7, 2002, Contact: J. Michael Bowen (701) 250-4204.

Amended Notices

EIS No. 020326, Final EIS, FHW, RI, Sakonnet River Bridge Rehabilitation or Replacement Project, Portsmouth & Tiverton, Newport County, RI, Contact: Daniel J. Berman (401) 528-4541. Revision of FR Notice Published on 8-9-2002: Officially Withdrawn by the Preparing Agency letter Dated 6/28/2002.

EIS No. 020354, Draft EIS, NOA, Northeast Skate Complex Fishery Management Plan, Implementation of Management Measures, Magnuson-Stevens Fishery Conservation and Management Act, New England Fishery Management Council, Comment Period Ends: October 15, 2002, Contact: Patricia Kurkul (978) 281-9210. Revision of FR Notice Published on 8/30/2002: Contact Person's Phone Number Corrected from 202-482-5181 to 978-281-9210.

Dated: September 3, 2002.
Joseph C. Montgomery,
Director, NEPA Compliance Division, Office of Federal Activities.

[FR Doc. 02-22733 Filed 9-5-02; 8:45 am]

BILLING CODE 6560-50-P